ENVIRONMENTAL PROTECTION AGENCY

40 CFR Part 52

[EPA-R09-OAR-2006-0926; FRL-8266-7]

Approval and Promulgation of Implementation Plans; Revisions to the Nevada State Implementation Plan; Excess Emissions Provisions

AGENCY: Environmental Protection Agency (EPA).

ACTION: Proposed rule; extension of comment period.

SUMMARY: On December 18, 2006 (71 FR 75690), EPA proposed revisions to the Nevada State Implementation Plan (SIP). These revisions relate to excess emissions provisions. EPA is extending the comment period until February 16, 2007.

DATES: Any comments on this proposal must arrive by February 16, 2007.

ADDRESSES: Submit comments, identified by docket number EPA-R09-OAR-2006-0926, by one of the following methods:

1. Federal eRulemaking Portal: www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or e-mail. www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Julie Rose, EPA Region IX, (415) 947-4126, Rose.Julie@epa.gov.

SUPPLEMENTARY INFORMATION: On December 18, 2006, EPA proposed the following revisions to the Nevada State Implementation Plan (SIP). Both of these revisions relate to excess emissions provisions.

Rule No. | Proposed action
NAC 445.677 | Approve requested rescission.
NAQR Article 2.5.4 | Disapprove rule previously approved in error.

The proposed action provided a 30-day public comment period. In response to a request from Leo M. Drozdoff, P.E., Administrator, Nevada Division of Environmental Protection (NDEP), submitted by letter on December 21, 2006, EPA is extending the comment period for an additional 30 days.

Dated: December 26, 2006.
Jane Diamond,
Acting Regional Administrator, Region IX.

[FR Doc. E7-18 Filed 1-5-07; 8:45 am]

BILLING CODE 6560-50-P